CORPORATION FOR NATIONAL AND COMMUNITY SERVICE

Agency Information Collection Activities; Submission to the Office of Management and Budget for Review and Approval; Comment Request; External Reviewer Application Instructions

AGENCY: Corporation for National and Community Service.

ACTION: Notice of information collection; request for comment.

SUMMARY: The Corporation for National and Community Service, operating as AmeriCorps, has submitted a public information collection request (ICR) entitled External Reviewer Application Instructions. for review and approval in accordance with the Paperwork Reduction Act.

DATES: Written comments must be submitted to the individual and office listed in the ADDRESSES section by April 17, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Danielle Horetsky, at 202-606-3863 or by email to dhoretsky@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 27, 2022 at 87 FR 79288. This comment period ended February 27, 2023. AmeriCorps did not receive any comments in connection with the 60-day Notice.

Title of Collection: External Reviewer Application Instructions.

OMB Control Number: 3045-0090. Type of Review: Reinstatement.

Respondents/Affected Public: Individuals and Households.

Total Estimated Number of Annual Responses: 500 Respondents.

Total Estimated Number of Annual Burden Hours: 375.

Abstract: The External Reviewer Application is used by individuals who wish to serve as External Reviewers for AmeriCorps when external reviewers are needed to review grant applications and corresponding forms to confirm participation and conflict of interest requirements. The information collected will be used by AmeriCorps to select review participants for each grant competition. The information is collected electronically using AmeriCorps' web-based system and via email. AmeriCorps seeks to reinstate the recently discontinued information collection with revisions that add two new forms designed to outline the participant agreement and certify that there is no conflict of interest when reviewers are confirmed as reviewers. The revisions are intended to improve data quality, collection, and utilization of data. The information collection will otherwise be used in the same manner as the previously approved and recently discontinued information collection, which expired on February 28, 2023.

Melissa Allen,
Acting Chief Program Officer.

[FR Doc. 2023-05487 Filed 3-16-23; 8:45 am]

BILLING CODE 6050-28-P